DEPARTMENT OF THE INTERIOR

National Park Service

[NPS-WASO-CONC-26525; PPWOBSADC0, PPMVSCS1Y.Y00000]

Notice of Extension of Concession Contracts and Intent To Award Temporary Concession Contract

AGENCY: National Park Service, Interior.

ACTION: Public notice.

SUMMARY: The National Park Service hereby gives public notice that it proposes to extend the expiring concession contracts listed in the table below until the date shown in the “Extension Date” column, or until the effective date of a new contract, whichever occurs sooner. The National Park Service hereby gives public notice that it intends to award one temporary concession contract as described below.

DATES: The National Park Service intends for the extensions and temporary concession contract to commence on January 1, 2019.

FOR FURTHER INFORMATION CONTACT: Kurt Rausch, Acting Program Chief, Commercial Services Program, National Park Service, 1849 C Street NW, Mail Stop 2410, Washington, DC 20240, Telephone: 202-513-7156.

SUPPLEMENTARY INFORMATION: All of the concession contracts listed in the first table below will expire by their terms on or before December 31, 2018. The National Park Service intends to extend the concession contracts shown until the specific date shown in the “Extension Date” column, or until the effective date of a new concession contract, whichever occurs first. For the second table, the contract is extended until the date shown in the “Extension Date” column. Under the provisions of current concession contracts, the National Park Service authorizes extension of visitor services for the listed contracts under the terms and conditions of the current contract (as amended if applicable). The extension of operations does not affect any rights with respect to selection for award of a new concession contract. The National Park Service has determined the proposed extensions are necessary to avoid interruption of visitor services and has taken all reasonable and appropriate steps to consider alternatives to avoid such interruption. The publication of this notice merely reflects the intent of the National Park Service and does not bind the National Park Service to extend or award any of the contracts listed below.

The information in the third table shows concession contracts for which the National Park Service intends to award temporary concession contracts to qualified persons under the authority of 36 CFR 51.24(a), for a term not to exceed 3 years. The NPS intends for the temporary concession contracts to commence as of the specific dates shown in the “Effective Date” column. This notice is not a request for proposals.

Table 1—Concession Contracts Extended Until the Date Shown or Until the Effective Date of a New Contract
Park unit | CONCID | Concessioner | Extension date
Acadia NP | ACAD014-09 | Carriages of Acadia, Inc | 12/31/2019
Badlands NP | BADL001-09 | Badlands Lodge, LLC | 12/31/2019
Big Bend NP | BIBE002-08 | Big Bend Resorts LLC | 6/30/2020
Buck Island Reef NM | BUIS006-06 | Teroro II, Inc | 3/4/2019
Buck Island Reef NM | BUIS008-06 | Llewellyn's Charter, Inc | 3/4/2019
Buck Island Reef NM | BUIS014-06 | Michael Klein | 3/9/2019
Buck Island Reef NM | BUIS015-07 | D.T.R.T. Enterprises, LLC | 12/31/2019
Buck Island Reef NM | BUIS019-06 | Dragon Fly | 3/4/2019
Canyonlands NP | CANY031-07 | Holiday River Expeditions, Inc | 12/31/2019
Canyonlands NP | CANY032-07 | Escape Adventures, Inc | 12/31/2019
Canyonlands NP | CANY033-07 | Mike & Maggie Adventures, LLC | 12/31/2019
Canyonlands NP | CANY034-07 | Rim Tours, Inc | 12/31/2019
Canyonlands NP | CANY035-07 | Western Spirit Cycling, Inc | 12/31/2019
Denali NPP | DENA013-07 | Denali Nat'l Park Wilderness Centers LTD | 12/31/2019
Denali NPP | DENA015-07 | Doyon, Limited | 12/31/2019
Denali NPP | DENA016-07 | CATC Alaskan Tourism Corporation | 12/31/2019
Denali NPP | DENA024-07 | Sheldon Air Service LLC | 12/31/2019
Denali NPP | DENA025-07 | Rust Air, Inc | 12/31/2019
Denali NPP | DENA028-07 | Fly Denali, Inc | 12/31/2019
Denali NPP | DENA029-07 | Talkeetna Air Taxi, Inc | 12/31/2019
Eisenhower NHS | EISE001-07 | Gettysburg Tours, Inc | 12/31/2019
Everglades NP | EVER002-08 | Everglades National Park Boat Tours, Inc | 12/31/2019
Fire Island NS | FIIS003-09 | Sayville Ferry Service, Inc | 12/31/2019
Geo. Washington MP | GWMP003-13 | Belle Haven Marina, Inc | 12/31/2019
Glacier Bay NPP | GLBA009-07 | Alaska Discovery, Inc | 12/31/2019
Glacier Bay NPP | GLBA021-07 | Glacier Bay Sea Kayaks, Inc | 12/31/2019
Glacier Bay NPP | GLBA048-07 | Alaska Mt Guides & Climbing School, Inc | 12/31/2019
Golden Gate NRA | GOGA002-09 | Gold. Gate Counc. Amer Youth Hostels, Inc | 4/30/2020
Golden Gate NRA | GOGA010-98 | Peanut Wagon, Inc | 12/31/2019
Grand Canyon NP | GRCA002-08 | Grand Canyon North Rim, LLC | 12/31/2019
Grand Canyon NP | GRCA006-08 | AzRA Acquisition, LLC | 12/31/2019
Grand Canyon NP | GRCA007-08 | Arizona River Runners, Inc | 12/31/2019
Grand Canyon NP | GRCA010-08 | Canyoneers, Inc | 12/31/2019
Grand Canyon NP | GRCA011-08 | Colorado River & Trail Expeditions, Inc | 12/31/2019
Grand Canyon NP | GRCA015-08 | Grand Canyon Expeditions Company, Inc | 12/31/2019
Grand Canyon NP | GRCA016-08 | Canyon Expeditions, Inc | 12/31/2019
Grand Canyon NP | GRCA017-08 | Grand Canyon Whitewater, LLC | 12/31/2019
Grand Canyon NP | GRCA018-08 | Hatch River Expeditions, Inc | 12/31/2019
Grand Canyon NP | GRCA020-08 | Arizona Raft Adventures, LLC | 12/31/2019
Grand Canyon NP | GRCA021-08 | O.A.R.S. Grand Canyon, Inc | 12/31/2019
Grand Canyon NP | GRCA022-08 | Outdoors Unlimited River Trips | 12/31/2019
Grand Canyon NP | GRCA024-08 | ARAMARK Sports & Entert. Services, Inc | 12/31/2019
Grand Canyon NP | GRCA025-08 | Tour West, Inc | 12/31/2019
Grand Canyon NP | GRCA026-08 | Western River Expeditions, Inc | 12/31/2019
Grand Canyon NP | GRCA028-08 | Canyon Explorations, Inc | 12/31/2019
Grand Canyon NP | GRCA029-08 | Grand Canyon Discovery, LLC | 12/31/2019
Great Smoky Mtns NP | GRSM002-09 | Stokely Consolidated Investments, LLC | 12/31/2019
Great Smoky Mtns NP | GRSM006-07 | Smoky Mountain Stables, Inc | 12/31/2019
Isle Royale NP | ISRO002-09 | Isle Royale Resorts, LLC | 12/31/2019
Lake Roosevelt NRA | LARO004-07 | Lake Roosevelt Vacations, Inc | 4/30/2020
Muir Woods NM | MUWO001-09 | Cloudless Skies Parks Company, LLC | 4/30/2020
Point Reyes NS | PORE005-08 | Stewart Ranch, LLC | 3/31/2020
Prince William FP | PRWI001-08 | Recreational Adventures Campground, LLC | 12/31/2019
Wrangell-St. Elias NPP | WRST001-07 | Ultima Thule Outfitters, Inc | 12/31/2019
Wrangell-St. Elias NPP | WRST002-07 | Johnny W. McMahan | 12/31/2019
Wrangell-St. Elias NPP | WRST003-07 | Wendell Kirk Ellis | 12/31/2019
Wrangell-St. Elias NPP | WRST004-07 | W. Cole Ellis | 12/31/2019
Wrangell-St. Elias NPP | WRST005-07 | Majestic Mountain Outfitters, Inc | 12/31/2019
Wrangell-St. Elias NPP | WRST006-07 | Rough & Ready Guide Service, Inc | 12/31/2019
Wrangell-St. Elias NPP | WRST007-07 | Kichatna Guide Service | 12/31/2019
Wrangell-St. Elias NPP | WRST009-07 | W. Cole Ellis | 12/31/2019
Wrangell-St. Elias NPP | WRST010-07 | Majestic Mountain Outfitters, Inc | 12/31/2019
Wrangell-St. Elias NPP | WRST012-07 | Urban E. Rahoi | 12/31/2019
Wrangell-St. Elias NPP | WRST013-07 | Thomas Vaden | 12/31/2019
Wrangell-St. Elias NPP | WRST014-07 | Ultima Thule Outfitters, Inc | 12/31/2019
Wrangell-St. Elias NPP | WRST015-07 | Ultima Thule Outfitters, Inc | 12/31/2019
Wrangell-St. Elias NPP | WRST016-07 | Wrangell Outfitters, Inc | 12/31/2019
Wrangell-St. Elias NPP | WRST017-07 | Chuck McMahan | 12/31/2019
Zion NP | ZION003-09 | Xanterra Parks & Resorts, Inc | 12/31/2019

Table 2—Concession Contracts Extended Until the Date Shown
Park unit | CONCID | Concessioner | Extension date
Statue of Liberty NM | STI001-07 | Statue Cruises, LLC | 09/30/2020

Table 3—Temporary Concession Contract
Park unit | CONCID | Services | Effective date
Fire Island NS | FIIS007 | Marina Services | 1/1/2019
Point Reyes NS | PORE005 | Horse Camp | 4/1/2019

Dated: March 12, 2019.
Lena McDowall,
Deputy Director, Management and Administration.

[FR Doc. 2019-05196 Filed 3-19-19; 8:45 am]

BILLING CODE 4312-53-P